DEPARTMENT OF HOUSING AND URBAN DEVELOPMENT

[Docket No. FR-5100-FA-27]

Announcement of Funding Awards for Fiscal Year 2007 Early Doctoral Student Research Grant Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year (FY) 2007 Early Doctoral Student Research Grant (EDSRG) Program. The purpose of this document is to announce the names and addresses of the award winners and the amount of the awards to be used to help doctoral students cultivate their research skills through the preparation of research manuscripts that focus on housing and urban development issues.

FOR FURTHER INFORMATION CONTACT: Susan Brunson, Office of University Partnerships, Department of Housing and Urban Development, Room 8106, 451 Seventh Street, SW., Washington, DC 20410, telephone (202) 402-3852. To provide service for persons who are hearing- or speech-impaired, this number may be reached via TTY by Dialing the Federal Information Relay Service on (800) 877-8339 or (202) 708-1455. (Telephone numbers, other than “800” TTY numbers, are not toll free).

SUPPLEMENTARY INFORMATION: The EDSRG Program provides funds to eligible doctoral students to cultivate their research skills through preparation of research manuscripts that focus on policy-relevant housing and urban development issues. Students, who are in the early stages of their doctoral studies, have 12 months to complete a major research study. The maximum amount to be awarded to a doctoral student is $15,000.

The Office of University Partnerships under the Assistant Secretary for Policy Development and Research (PD&R) administers this program. In addition to this program, the Office of University Partnerships administers HUD's ongoing grant programs to institutions of higher education as well as creates initiatives through which colleges and universities can bring their traditional missions of teaching, research, service, and outreach to bear on the pressing local problems in their communities.

The Catalog of Federal Domestic Assistance number for this program is 14.517.

May 13, 2007, (72 FR 11758), HUD published a Notice of Funding Availability (NOFA) announcing the availability of $105,000 in FY 2007 funds for the EDSRG Program. The Department reviewed, evaluated and scored the applications received based on the criteria in the NOFA. As a result, HUD has funded the applications announced below, and in accordance with section 102(a)(4)(C) of the Department of Housing and Urban Development Reform Act of 1989 (103 Stat. 1987, U.S.C. 3545). More information about the winners can be found at http://www.oup.org.

List of Awardees for Grant Assistance Under the Fiscal Year (FY) 2007 Early Doctoral Student Research Grant Program Funding Competition, by Institution, Address, Grant Amount and Name of Student Funded

1. Brandeis University, Stanley Bolotin, Brandeis University, Heller School, IASP, 415 South Street, Waltham, MA 02454-9110. Grant: $13,580 to Hannah Thomas.

2. The Regents of the University of California, Irvine, Chris Abernethy, The Regents of the University of California, Irvine, Office of Research Administration, 300 University Tower, Irvine, CA 92697. Grant: $15,000 to Rocco Pendola.

3. Tulane University, Dr. Felicia Rabito, Tulane University, School of Public Health, Department of Epidemiology, 1430 Tulane Avenue, EP 15, New Orleans, LA 70112. Grant: $15,000 to Elizabeth Holt.

4. University of Tennessee, Kay Cogley, University of Tennessee, Office of Research, 1534 White Avenue, Knoxville, TN 37996-1529. Grant: $15,000 to Courtney Cronley.

5. The Regents of the University of California, Berkeley, Susan Hedley, Sponsored Projects Office, The Regents of the University of California, Berkeley, 2150 Shattuck Avenue, Suite 313, Berkeley, CA 94704-5940. Grant: $15,000 to Richard Smith.

6. Trustees of Indiana University, David Renigold, Trustees of Indiana University, P.O. Box 1847, Bloomington, IN 47402-1847. Grant: $14,413 to Stephanie Moulton.

7. The George Washington University, Harold Gollos, The George Washington University, Department of Economics, 2121 Eye Street, NW., Suite 601, Washington, DC 20052. Grant: $14,700 to William Larson.

Dated: October 9, 2007.
Darlene F. Williams,
Assistant Secretary for Policy Development and Research.

[FR Doc. E7-20687 Filed 10-19-07; 8:45 am]

BILLING CODE 4210-67-P